DEPARTMENT OF LABOR

Employment and Training Administration

[TA-W-61,833]

Chapin Watermatics Incorporated, a Subsidiary of Jain Americas Incorporated, Watertown, NY; Notice of Negative Determination Regarding Application for Reconsideration

By application of August 20, 2007, a petitioner requested administrative reconsideration of the Department's negative determination regarding eligibility for workers and former workers of the subject firm to apply for Trade Adjustment Assistance (TAA). The denial notice was signed on July 30, 2007 and published in the Federal Register on August 14, 2007 (72 FR 45451).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, which was filed on behalf of workers at Chapin Watermatics Inc. a subsidiary of Jain Americas Inc., Watertown, New York engaged in the production of irrigation systems, such as drip irrigation tape, was denied based on the findings that during the relevant time period, the subject company did not separate or threaten to separate a significant number or proportion of workers, as required by Section 222 of the Trade Act of 1974.

In the request for reconsideration, the petitioner states that there were five workers laid off from the subject firm during the relevant time period.

For companies with a workforce of over fifty workers, a significant proportion of worker separations or threatened separation is five percent. Significant number or proportion of the workers in a firm or appropriate subdivision with a workforce of fewer than 50 workers is at least three workers. In determining whether there were a significant proportion of workers separated or threatened with separations at the subject company during the relevant time period, the Department requested employment figures for the subject firm for 2005, 2006, and January through August, 2007. A careful review of the information provided in the initial investigation revealed that five workers were laid off from the administrative office at the subject firm during the relevant time period. However, overall employment at the subject firm has increased from 2005 to 2006 and from January through August, 2007 when compared with the same period in 2006.

Furthermore, a review of the initial investigation also revealed that the subject company sales and production of drip irrigation tape increased from 2005 to 2006, and also increased during January through June of 2007 when compared with the same period in 2006, and that the subject company did not shift production abroad.

As employment levels, sales and production at the subject facility did not decline in the relevant period, and the subject firm did not shift production to a foreign country, criteria (a)(2)(A)(I.A), (a)(2)(B)(II.A), (a)(2)(A)(I.B), and (a)(2)(B)(II.B) have not been met.

Conclusion

After review of the application and investigative findings, I conclude that there has been no error or misinterpretation of the law or of the facts which would justify reconsideration of the Department of Labor's prior decision. Accordingly, the application is denied.

Signed at Washington, DC, this 5th day of September, 2007
Elliott S. Kushner,
Certifying Officer, Division of Trade Adjustment Assistance.

[FR Doc. E7-17886 Filed 9-10-07; 8:45 am]

BILLING CODE 4510-FN-P